ENVIRONMENTAL PROTECTION AGENCY

40 CFR Part 60 and 63

[EPA-HQ-OAR-2010-0505; FRL-9484-3]

RIN 2060-AP76

Oil and Natural Gas Sector: New Source Performance Standards and National Emission Standards for Hazardous Air Pollutants Reviews; Extension of Comment Period Closing Date

AGENCY: Environmental Protection Agency (EPA).

ACTION: Proposed rule; extension of the public comment period.

SUMMARY: The EPA is announcing that the period for providing public comments on the August 23, 2011 proposed rule titled, “Oil and Natural Gas Sector: New Source Performance Standards and National Emission Standards for Hazardous Air Pollutants Reviews,” is being extended to November 30, 2011.

DATES: Comments. The public comment period for the proposed rules published on August 23, 2011 (76 FR 52738) closes on November 30, 2011.

ADDRESSES: Submit your comments, identified by Docket ID Number EPA-HQ-OAR-2010-0505, by one of the following methods:

• Federal eRulemaking Portal: http://www.regulations.gov: Follow the instructions for submitting comments.

• Agency Web site: http://www.epa.gov/oar/docket.html. Follow the instructions for submitting comments on the Air and Radiation Docket Web site.

• Email: a-and-r-docket@epa.gov. Include Docket ID Number EPA-HQ-OAR-2010-0505 in the subject line of the message.

• Facsimile: (202) 566-9744.

• Mail: Attention Docket ID Number EPA-HQ-OAR-2010-0505, 1200 Pennsylvania Ave., NW., Washington, DC 20460. Please include a total of two copies. In addition, please mail a copy of your comments on the information collection provisions to the Office of Information and Regulatory Affairs, Office of Management and Budget (OMB), Attn: Desk Officer for the EPA, 725 17th Street, NW., Washington, DC 20503.

• Hand Delivery: United States Environmental Protection Agency, EPA West (Air Docket), Room 3334, 1301 Constitution Ave., NW., Washington, DC 20004, Attention Docket ID Number EPA-HQ-OAR-2010-0505. Such deliveries are only accepted during the Docket's normal hours of operation, and special arrangements should be made for deliveries of boxed information.

Instructions: Direct your comments to Docket ID Number EPA-HQ-OAR-2010-0505. The EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

Docket. Publicly available documents relevant to this action are available for public inspection either electronically at http://www.regulations.gov, or in hard copy at the EPA Docket Center, Room 3334, 1301 Constitution Avenue NW., Washington, DC. The Public Reading Room is open from 8:30 a.m. to 4:30 p.m., Monday through Friday, excluding legal holidays. A reasonable fee may be charged for copying.

World Wide Web. The EPA Web site for this rulemaking is located at: http://www.epa.gov/airquality/oilandgas.html.

FOR FURTHER INFORMATION CONTACT: Mr. Bruce Moore, Fuels and Incineration Group (E143-05), Sector Policies and Programs Division, Office of Air Quality Planning and Standards, U.S. Environmental Protection Agency, Research Triangle Park, North Carolina 27711; Telephone number: (919) 541-5460; Fax number (919) 541-3470; Email address: moore.bruce@epa.gov.

SUPPLEMENTARY INFORMATION:

Comment Period

The EPA has received numerous requests for extending the public comment period for this proposed rule. Based on the information provided in the requests, the EPA has determined that an extension of 30 days is appropriate. Accordingly, the public comment period will now end on November 30, 2011. Note that, on August 23, 2011, the EPA published in the Federal Register the proposed rule titled, “Oil and Natural Gas Sector: New Source Performance Standards and National Emission Standards for Hazardous Air Pollutants Reviews.” In that notice, the EPA announced that all comments must be received by October 24, 2011. The EPA conducted three public hearings on this proposed rule, the last of which was held on September 29, 2011, in Arlington, Texas. See 76 FR 53371, August 26, 2011. Under section 307(d) of the Clean Air Act (CAA), the EPA must keep the record open for 30 days after completion of the hearings to provide an opportunity for submission of rebuttal and supplementary information. On October 20, 2011, the EPA published a Federal Register notice correcting the comment period closing date to October 31, 2011. See 76 FR 65138, October 20, 2011.

How can I get copies of this document and other related information?

The EPA has established the official public docket No. EPA-HQ-OAR-2010-0505. The EPA has also developed Web sites for the proposed rulemaking at the addresses given above.

Dated: October 24, 2011.
Gina McCarthy,
Assistant Administrator for Air and Radiation.

[FR Doc. 2011-27961 Filed 10-27-11; 8:45 am]

BILLING CODE 6560-50-P